DEPARTMENT OF TRANSPORTATION

Federal Highway Administration

Environmental Impact Statement: Hunterdon County, NJ

AGENCY: Federal Highway Administration (FHWA), DOT.

ACTION: Cancellation of the notice of intent.

SUMMARY: This notice rescinds the previous Notice of Intent (NOI) published on November 24, 2006 (71 FR 67955) to prepare an Environmental Impact Statement (EIS) for a proposed South Branch Parkway project in Hunterdon County, New Jersey.

FOR FURTHER INFORMATION CONTACT: Roger S. Lall, Director of Engineering, Federal Highway Administration, New Jersey Division Office, 840 Bear Tavern Road, Suite 310, West Trenton, New Jersey 08628; Telephone: (609) 637-4200 or Elkins Green, Director, Division of Environmental Resources, New Jersey Department of Transportation, 1035 Parkway Avenue, Trenton, New Jersey 08625; Telephone: (609) 530-8075.

SUPPLEMENTARY INFORMATION: The FHWA, in cooperation with the New Jersey Department of Transportation (NJDOT), is rescinding the NOI to prepare an EIS for a project that had been proposed to construct the South Branch Parkway in Raritan Township, Hunterdon County, New Jersey, Federal Project No. HPP-0037(130).

The proposed action included the construction of a limited access highway on new location for a distance of approximately 3.7 miles; extending from a proposed intersection at Voorhees Corner Road and Route 31, northward to a proposed intersection at a point approximately 0.5 mile north of the existing intersection of Route 31 and Bartles Corner Road. This project had multiple purposes including:

Providing an alternative to Route 31 for north-south travel through the Flemington-Raritan area,

Reducing local and regional traffic congestion on existing Route 31,

Providing the initial investment in a long-term Integrated Land Use and Transportation Plan that would enhance the overall connectivity with the local roadway network, leading to a more balanced transportation network and land use pattern in the corridor.

The NOI is being rescinded because NJDOT has conducted further analysis and has determined that key elements of the purpose and need can be met by making improvements to existing Route 31 rather than pursuing construction of the South Branch Parkway. There has been a change in the planned approach to this project, which calls for immediate improvements to Route 31. Traffic studies conducted after the completion of recently constructed improvements to Route 31 beyond the immediate project area, have determined that these improvements, in conjunction with the future improvements to Route 31, will relieve current congestion on Route 31. Depending on the extent of development in the corridor, future improvements may be needed of the South Branch Parkway. The Department has determined that a substantial investment of resources is not warranted at this time when a less costly option is available that also has a potential for significantly less of an impact to the environment.

The FHWA, in cooperation with NJDOT will suspend the environmental analyses and EIS for the South Branch Parkway. Improvement to reduce local and regional traffic congestion on Route 31 will be further analyzed. Coordination with the public will continue during project development.

(Catalog of Federal Domestic Assistance Program Number 20.205, Highway Planning and Construction. The regulations implementing Executive Order 12372 regarding intergovernmental consultation on Federal programs and activities apply to this program.)

Issued on June 24, 2009.
Roger S. Lall,
Director of Engineering.

[FR Doc. E9-15402 Filed 6-29-09; 8:45 am]

BILLING CODE 4910-22-P